DEPARTMENT OF HOUSING AND URBAN DEVELOPMENT

[Docket No. FR-4572-D-21]

Delegation of Authority to the General Counsel Regarding Civil Money Penalty Actions for Certain Violations Under the National Housing Act

AGENCY: Office of the Assistant Secretary for Housing-Federal Housing Commissioner, HUD.

ACTION: Notice of delegation of authority.

SUMMARY: In this notice, the Assistant Secretary for Housing-Federal Housing Commissioner is delegating authority to the General Counsel of HUD to take civil money penalty actions against participants in mortgages or loans insured under the National Housing Act for certain violations, along with the power to redelegate that authority. Elsewhere in today's Federal Register is a notice of a redelegation from the General Counsel that will enable the Director of the HUD Departmental Enforcement Center (DEC) to take these actions as well.

EFFECTIVE DATE: September 12, 2002.

FOR FURTHER INFORMATION CONTACT: Dane M. Narode, Deputy Chief Counsel, Administrative Proceeding Branch, Departmental Enforcement Center, Department of Housing and Urban Development, Portals Building, 1250 Maryland Avenue, Suite 200, Washington, DC 20024, (202) 708-2350. This is not a toll-free number. For the hearing/speech-impaired, the number may be accessed via TTY by calling the Federal Information Relay Service at 1-800-877-8399.

SUPPLEMENTARY INFORMATION: HUD regulations at 24 CFR 30.36 authorize the Assistant Secretary for Housing-Federal Housing Commissioner, or the Assistant Secretary's designee, to initiate a civil money penalty action against any principal, officer or employee of a mortgagee or lender, or other participant, in either a mortgage insured under the National Housing Act (Act) or any loan that is covered by a contract of insurance under title I of the Act, or any provider of assistance to a borrower in connection with any such mortgage or loan, including: sellers, borrowers, closing agents, title companies, real estate agents, mortgage brokers, appraisers, loan correspondents, dealers, consultants, contractors, subcontractors and inspectors. Section 30.36 also identifies the violations for which the Assistant Secretary for Housing-Federal Housing Commissioner may impose a penalty. See also 12 U.S.C. 1735f-14.

Today's notice announces the decision to delegate the enforcement authority in 24 CFR 30.36(a) to the General Counsel, along with the power to redelegate that authority. The DEC is responsible for carrying out a wide range of HUD enforcement activities. Because the DEC has been recently placed under the Office of the General Counsel, the General Counsel is, in turn, redelegating the authority to the Director of the DEC. The redelegation from the General Counsel also appears in today's Federal Register.

Finally, this delegation of authority, noticed today, does not affect the authority of the Mortgagee Review Board, described in 24 CFR 30.35, or the Assistant Secretary for Housing to initiate civil money penalty actions.

Accordingly, the Assistant Secretary for Housing—Federal Housing Commissioner hereby retains and delegates authority as follows:

Section A. Authority Delegated: The General Counsel is hereby delegated the authority to take all actions permitted under 24 CFR 30.36. The authority delegated does not include authority to waive any regulations issued under the authority of the Assistant Secretary for Housing—Federal Housing Commissioner.

Section B. Authority to Redelegate: The General Counsel is authorized to redelegate the authority described in section A.

Section C: The Assistant Secretary may revoke the authority authorized herein, in whole or in part, at any time.

Authority: Section 30.36 of title 24 of the Code of Federal Regulations.

Dated: September 12, 2002.
John C. Weicher,
Assistant Secretary for Housing-Federal Housing Commissioner.

[FR Doc. 02-33039 Filed 12-30-02; 8:45 am]

BILLING CODE 4210-27-P